DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations begin or threatened to begin and the subdivision of the firm involved.

The petitioners or any other persons showing a substantial interest in the subject matter of the investigations may request a public hearing, provided such request is filed in writing with the Director, Division of Trade Adjustment Assistance, at the address shown below, not later than April 7, 2003.

Interested persons are invited to submit written comments regarding the subject matter of the investigations to the Director, Division of Trade Adjustment Assistance, at the address shown below, not later than April 7, 2003.

The petitions filed in this case are available for inspection at the Office of the Director, Division of Trade Adjustment Assistance, Employment and Training Administration, U.S. Department of Labor, Room C-5311, 200 Constitution Avenue, NW., Washington, DC 20210.

Signed at Washington, DC, this 3rd day of March 2003.
Edward A. Tomchick,
Director, Division of Trade Adjustment Assistance.

Appendix
[Petitions instituted between 02/04/2003 and 2/14/2003]
TA-W | Subject firm (petitioners) | Location | Date of institution | Date of petition
42,360 | Precision Twist Drill Co. (USWA) | Rhinelander, WI | 02/06/2003 | 02/16/2002
50,770 | Warp Knit Mills, Inc. (Comp) | Lincolnton, NC | 02/04/2003 | 02/04/2003
50,771 | Spartech Plastics (IBT) | Conneaut, OH | 02/04/2003 | 02/03/2003
50,772 | Symbol Technologies (MI) | Farmington Hill, MI | 02/04/2003 | 01/29/2003
50,773 | Crystal Dyeing and Finishing (Comp) | Hickory, NC | 02/04/2003 | 02/03/2003
50,774 | A-Plus Manufacturing (Comp) | N. Andover, MA | 02/04/2003 | 01/29/2003
50,775 | Harman Wisconsin, Inc. (Comp) | Prairie, du Chie, WI | 02/04/2003 | 01/31/2003
50,776 | North Safety Products (Wkrs) | Tallmadge, OH | 02/04/2003 | 02/03/2003
50,777 | A.O Smith EPC (Comp) | Ripley, TN | 02/04/2003 | 02/02/2003
50,778 | Great Northern Bark Company (Comp) | Columiba Falls, MT | 02/04/2003 | 01/31/2003
50,779 | Jacobson Greenhouses, Inc. (Comp) | Spokane, WA | 02/04/2003 | 01/22/2003
50,780 | Piedmont Carving Co., Inc. (Comp) | Thomasville, NC | 02/04/2003 | 01/31/2003
50,781 | Certifying Service Express (Comp) | Janesville, WI | 02/04/2003 | 01/31/2003
50,782 | EMCO Flow Systems (CO) | Longmont, CO | 02/04/2003 | 01/31/2003
50,783 | Precise Courtesy Corporation (Wkrs) | Buffalo Grove, IL | 02/04/2003 | 01/23/2003
50,784 | Sara Lee Hosiery (Wrks) | Rockingham, NC | 02/04/2003 | 01/28/2003
50,785 | RMI Titanium Company (USWA) | Niles, OH | 02/04/2003 | 01/17/2003
50,786 | Pure Resources (Wkrs) | Midland, TX | 02/04/2003 | 01/21/2003
50,787 | Tinnerman Palnut Engineer Products, LLC (Comp) | Massillon, OH | 02/04/2003 | 01/31/2003
50,788 | Republic Engineered Products (USWA) | Canton, OH | 02/04/2003 | 01/30/2003
50,789 | Premcor Refining Group, Inc. (TX) | Port Arthur, TX | 02/04/2003 | 01/27/2003
50,790 | Dura Automotive Systems, Inc. (Comp) | Livonia, MI | 02/04/2003 | 01/28/2003
50,791 | F/V Sally Ann (Comp) | Manokotak, AK | 02/04/2003 | 01/27/2003
50,792 | F/V Hammer Time (Comp) | Togiak, AK | 02/04/2003 | 01/23/2003
50,793 | Matthew Thornson (Comp) | Dillingham, AR | 02/04/2003 | 02/03/2003
50,794 | Santa Rosa, Inc. (Comp) | Kodiak, AK | 02/04/2004 | 02/03/2003
50,795 | Purl Knit Fabrics Corporation (Wkrs) | Brooklyn, NY | 02/06/2003 | 12/02/2002
50,796 | General Electric (IUE) | Euclid, OH | 02/06/2003 | 01/22/2003
50,797 | DuPont (Comp) | Rochester, NY | 02/06/2003 | 01/10/2003
50,798 | Overseas Manufacturing Systems of Amer. (W | El Paso, TX | 02/06/2003 | 01/16/2003
50,799 | LG Philips Displays (Comp) | Ann Arbor, MI | 02/06/2003 | 02/03/2003
50,800 | Flexcel (Comp) | Batesville, MS | 02/06/2003 | 01/16/2003
50,801 | Johnston Industries, Inc. (Comp) | Opp, AL | 02/06/2003 | 02/04/2003
50,802 | Applied Micro Circuits Corporation (Comp) | San Diego, CA | 02/06/2003 | 01/21/2003
50,803 | Rock Tenn (Wkrs) | El Paso, TX | 02/06/2003 | 01/20/2003
50,804 | Aetna, Inc. (Wkrs) | Allentown, PA | 02/06/2003 | 01/22/2003
50,805A | Bassett Furniture Industries (Co.) | Dublin, GA | 02/06/2003 | 02/04/2003
50,805 | Bassett Furniture Industries (Co.) | Macon, GA | 02/06/2003 | 02/04/2003
50,806 | Levolor Kirsch Window Fashions (Comp) | Ogden, UT | 02/10/2003 | 02/05/2003
50,807 | MCB Inc. (Wkrs) | Los Angeles, CA | 02/10/2003 | 01/21/2003
50,808 | Thomson Industries (Comp) | Port Washington, NY | 02/10/2003 | 12/31/2002
50,809 | Eastman Kodak Company (NY) | Rochester, NY | 02/10/2003 | 01/24/2003
50,810 | Deltech Polymers Corporation (Comp) | Troy, OH | 02/10/2003 | 01/24/2003
50,811 | Penske Truck LSG Administration (Wkrs) | Brea, CA | 02/10/2003 | 01/27/2003
50,812 | Federal Mogul (Wkrs) | Blackburg, VA | 02/10/2003 | 01/24/2003
50,813 | General Binding Corp. (Wkrs) | DeForest, WI | 02/10/2003 | 01/31/2003
50,814 | Caterpillar Paving Products, Inc. (Wkrs) | Brooklyn Park, MN | 02/10/2003 | 02/03/2003
50,815 | Nexans Magnet Wire U.S.A. (Wkrs) | Mexico, MO | 02/10/2003 | 02/04/2003
50,816 | Nevamar Company (Comp) | Hampton, SC | 02/10/2003 | 02/04/2003
50,817 | Diamond Brands (Comp) | Strong, ME | 02/10/2003 | 02/04/2003
50,818 | Hitchiner Manufacturing Co, Inc. (NH) | Littleton, NH | 02/10/2003 | 02/05/2003
50,819 | Yarway Corporation (Comp) | Blue Bell, PA | 02/10/2003 | 01/22/2003
50,820 | Lapp Insulator (Wkrs) | Le Roy, NY | 02/10/2003 | 11/07/2002
50,821 | Gold Toe Brands, Inc. (Comp) | Newton, NC | 02/10/2003 | 01/22/2003
50,822 | Henlopen Manufacturing Co., Inc. (Comp) | Watertown, CT | 02/10/2003 | 01/30/2003
50,823 | Alcoa Compostion Foils (Wkrs) | Pevely, MO | 02/10/2003 | 01/30/2003
50,824 | Formtech Enterprises, Inc. (Comp) | Jackson, MI | 02/10/2003 | 02/06/2003
50,825 | LG Philips Displays Company (IBEW) | Ottawa, OH | 02/10/2003 | 01/17/2003
50,826 | Allegheny Ludlum Steel (USWA) | Massillon, OH | 02/10/2003 | 01/30/2003
50,827 | Advanced Mircro Devices (Wkrs) | Austin, TX | 02/10/2003 | 02/05/2003
50,828 | Radisys Corporation (Wkrs) | Hillsobro, OR | 02/10/2003 | 01/30/2003
50,829 | Engineered Medical Systems (Comp) | Indianapolis, IN | 02/10/2003 | 01/03/2003
50,830 | Tyco Plastics (IUE) | Louisville, KY | 02/10/2003 | 01/29/2003
50,831 | EIMCO, LLC (USWA) | Bluefield, WV | 02/10/2003 | 02/03/2003
50,832 | Ionics, Inc. (Comp) | Bridgeville, PA | 02/10/2003 | 02/05/2003
50,833 | Caraustar Industries (Comp) | Fayetteville, NC | 02/10/2003 | 02/01/2003
50,834 | TSI Graphics, Inc. (Wkrs) | Effingham, IL | 02/10/2003 | 02/05/2003
50,835 | Reliant Fastener (USWA) | Rock Falls, IL | 02/10/2003 | 01/02/2003
50,836 | F/V The Fox (Comp) | Metlakatla, AK | 02/10/2003 | 02/05/2003
50,837 | George Wilson (Comp) | Anchorage, AK | 02/10/2003 | 02/07/2003
50,838 | F/V Windy Sea (Comp) | Kodiak, AK | 02/10/2003 | 02/04/2003
50,839 | F/V Seamaid (Comp) | Manokotak, AK | 02/10/2003 | 01/28/2003
50,840 | Elsie M. Bartman (Comp) | Manokotak, AK | 02/10/2003 | 01/30/2003
50,841 | F/V Lynn C (Comp) | Port Heiden, AK | 02/10/2003 | 02/02/2003
50,842 | F/V Anna Mae (Comp) | Port Heiden, AK | 02/10/2003 | 02/04/2003
50,843 | F/V My Girls (Comp) | Port Heiden, AK | 02/10/2003 | 02/04/2003
50,844 | F/V Jennifer Lynn (Comp) | Togiak, AK | 02/10/2003 | 01/23/2003
50,845 | Vishay Dale Electronics, Inc. (Comp) | Norfolk, NE | 02/11/2003 | 02/07/2003
50,846 | Torque-Traction Mfg. Tech., Inc. (AR) | Jonesboro, AR | 02/11/2003 | 01/31/2003
50,847 | Elmer's Products, Inc. (IAM) | Bainbridge, NY | 02/11/2003 | 01/31/2003
50,848 | Strategic Distribution, Inc. (Comp) | Lenoir, NC | 02/11/2003 | 01/31/2003
50,849 | Diamond Brands (Comp) | Wilton, ME | 02/11/2003 | 02/10/2003
50,850 | PTC Alliance Midwest Manufacturing (USWA) | Chicago Heights, IL | 02/11/2003 | 02/05/2003
50,851 | Sentex Systems (Comp) | Chatsworth, CA | 02/11/2003 | 01/30/2003
50,852 | Micro Instrument Company (Comp) | Escondido, CA | 02/11/2003 | 01/31/2003
50,853 | OK foods, Inc. (AR) | Ft. Smith, AR | 02/11/2003 | 02/10/2003
50,854 | Reitz Tool, Inc. (Comp) | Cochranton, PA | 02/11/2003 | 02/10/2003
50,855 | Magna Powertech (MI) | Grand Rapids, MI | 02/11/2003 | 02/10/2003
50,856 | Schlumberg Technology Corporation (TX) | Webster, TX | 02/11/2003 | 02/10/2003
50,857 | Centre State International Trucks, Inc. (Comp) | West Burlington, IA | 02/11/2003 | 01/09/2003
50,858A | Freedom Plastics, LLC (Comp) | Sheffield, IL | 02/11/2003 | 02/10/2003
50,858 | Freedom Plastics, LLC (Comp) | Sheffield, IL | 02/11/2003 | 02/10/2003
50,859 | Vishay—Cera Mite (Wkrs) | Oconto Falls, WI | 02/11/2003 | 02/07/2003
50,860 | Cannondale Corporation (Comp) | Bedford, PA | 02/11/2003 | 02/10/2003
50,861 | Andrew Corporation (Wkrs) | Glen Rock, PA | 02/11/2003 | 01/28/2003
50,862 | F/V/ Silver Eagle (Comp) | Dillingham, AK | 02/11/2003 | 02/06/2003
50,863 | Eric Slotten (Comp) | Egegik, AK | 02/11/2003 | 02/06/2003
50,864 | F/V Jenny O. Daun (Comp) | Naknek, AK | 02/11/2003 | 02/04/2003
50,865 | Fibermark (MI) | Rochester, MI | 02/12/2003 | 02/11/2003
50,866 | AstenJohnson (Comp) | Jonesboro, GA | 02/12/2003 | 02/06/2003
50,867 | Eaton Remanufacturing (MI) | Oshtemo, MI | 02/12/2003 | 02/03/2003
50,868 | Ge-Ray Fabrics (Comp) | Morganville, NJ | 02/12/2003 | 02/11/2003
50,869 | Lear Corporation (Comp) | Grand Rapids, MI | 02/12/2003 | 02/07/2003
50,870A | Freedom Plastics LLC (Co.) | Shefield, IL | 02/12/2003 | 02/10/2003
50,870 | Freedom Plastics, LLC (Comp) | Joliet, IL | 02/12/2003 | 02/10/2003
50,871 | Jabil Circuit, Inc. (Comp) | St. Petersburg, FL | 02/12/2003 | 02/10/2003
50,872A | Leslie Fay Marketing, Inc. (Co.) | Pittston, PA | 02/12/2003 | 01/30/2003
50,872 | Leslie Fay Marketing, Inc. (Comp) | Laflin, PA | 02/12/2003 | 01/30/2003
50,873 | Scantibodies Laboratory, Inc. (Comp) | Santee, CA | 02/12/2003 | 01/29/2003
50,874 | Ocwen Federal Bank (Wkrs) | W. Palm Beach, FL | 02/12/2003 | 01/31/2003
50,875 | Rockford Powertrain (UAW) | Loves Park, IL | 02/12/2003 | 02/12/2003
50,876 | Mechanical Products Company, L.L.C. (UAW) | Jackson, MI | 02/12/2003 | 02/12/2003
50,877 | F/V Number One (Comp) | Manokotak, AK | 02/12/2003 | 01/22/2003
50,878 | Cannondale Corporation (Comp) | Bedford, PA | 02/13/2003 | 02/10/2003
50,879 | Maine Brand Manufacturing, Inc. (ME) | Littleton, ME | 02/13/2003 | 02/12/2003
50,880 | Savane International Corporation (Wkrs) | Santa Teresa, NM | 02/13/2003 | 02/01/2003
50,881 | Volex, Inc. (Wrks) | Chula Vista, CA | 02/13/2003 | 02/04/2003
50,882 | Pirelli Cable (Wkrs) | Colusa, CA | 02/13/2003 | 02/04/2003
50,883 | BOC Edwards (Comp) | Philadelphia, PA | 02/13/2003 | 02/11/2003
50,884 | Border Apparel (Comp) | El Paso, TX | 02/13/2003 | 02/04/2003
50,885 | Flying J. Oil and Gas, Inc. (Comp) | North Salt Lake, UT | 02/13/2003 | 02/07/2003
50,886 | Dana Brake Parts, Inc. (Comp) | Litchfield, IL | 02/13/2003 | 02/11/2003
50,887 | General Binding Corporation (Wkrs) | De Forest, WI | 02/13/2003 | 02/03/2003
50,888 | Go-Dan Industries, Inc. (USWA) | Buffalo, NY | 02/13/2003 | 02/12/2003
50,889 | Mega Tech of Oregon (Wkrs) | Corvallis, OR | 02/13/2003 | 02/07/2003
50,890 | Calapoois Valley Mushrooms (Comp) | Brownsville, OR | 02/13/2003 | 02/07/2003
50,891 | OSRAM Sylvania (Comp) | Lake Zurich, IL | 02/13/2003 | 02/11/2003
50,892 | Mastercraft Fabrics, LLC (Comp) | Morganton, NC | 02/13/2003 | 02/24/2003
50,893 | Best Manufacturing Gruop, LLC (Comp) | Griffin, GA | 02/13/2003 | 02/10/2003
50,894 | Electronic Data Systems (EDS) (Wkrs) | Albuquerque, NM | 02/13/2003 | 02/12/2003
50,895 | Americal corporation (Comp) | Goldsboro, NC | 02/13/2003 | 02/12/2003
50,896 | Easton Corporation (Comp) | Rochester Hills, MI | 02/13/2003 | 01/15/2003
50,897 | Michael Miller (Comp) | Inglis, FL | 02/14/2003 | 01/21/2003
50,898 | S/V Scampi (Comp) | Inglis, FL | 02/14/2003 | 01/21/2003
50,899 | John Halsey (Comp) | Homosassa, FL | 02/14/2003 | 01/21/2003
50,900 | David Beck (Comp) | Homosassa, FL | 02/14/2003 | 01/21/2003
50,901 | Holeinthewater Shrimp company (Comp) | Yankeetown, FL | 02/14/2003 | 01/21/2003
50,902 | Daniel Blanton (Comp) | Homosassa, FL | 02/14/2003 | 01/20/2003
50,903 | Jason Madison (Comp) | Homosassa, FL | 02/14/2003 | 01/20/2003
50,904 | B.J. Everett (Comp) | Old Town, FL | 02/14/2003 | 02/12/2003
50,905 | S/V Vagabond (Comp) | Inglis, FL | 02/14/2003 | 01/21/2003
50,906 | Arvin Meritor (Comp) | Gordonsville, TN | 02/14/2003 | 02/11/2003
50,907 | FCI USA, Inc. (Wkrs) | Etters, PA | 02/14/2003 | 02/04/2003
50,908 | Halliburton (Wkrs) | Alvarado, TX | 02/14/2003 | 02/13/2003
50,909 | International Foam, Inc. (UNITE) | Carlstadt, NJ | 02/14/2003 | 02/13/2003
50,910 | Managed Business Solutions (Comp) | Fort Collins, CO | 02/14/2003 | 02/12/2003
50,911 | Benton Veneer Company (AR) | Benton, AR | 02/14/2003 | 02/13/2003
50,912 | Kroehler Furniture Mfg. Co., Inc. (Wkrs) | Conover, NC | 02/14/2003 | 02/05/2003

[FR Doc. 03-7196 Filed 3-25-03; 8:45 am]

BILLING CODE 4510-30-M